DEPARTMENT OF THE INTERIOR

National Indian Gaming Commission

25 CFR Part 522

RIN 3141-AA73

Submission of Gaming Ordinance or Resolution

AGENCY: National Indian Gaming Commission.

ACTION: Proposed rule; reopening of comment period.

SUMMARY: On December 9, 2021, the National Indian Gaming Commission published a proposed rule to amend the regulations for the Submission of a Gaming Ordinance or Resolution under the Indian Gaming Regulatory Act. Comments sent to the listed email address, information@nigc.gov, may not have been received. In order to ensure that all submitted comments are received by the Commission for review, the NIGC is reopening the comment period for seven days to allow anyone that submitted comments during the original comment period to resubmit. If comments were submitted in any of the other methods specified in the Notice of Proposed Rulemaking, the NIGC received those comments, and there is no need to resubmit.

DATES: The comment period for the proposed rule published in the Federal Register on December 2, 2021, at 86 FR 68445, and corrected on January 14, 2022 at 87 FR 2383, is reopened. Comments should be received on or before June 23, 2022.

ADDRESSES: You may send comments by any of the following methods:

• Federal eRulemaking Portal: Go to http://www.regulations.gov. Follow the instructions for submitting comments.

• Email: information@nigc.gov.

• Mail: National Indian Gaming Commission, 1849 C Street NW, MS 1621, Washington, DC 20240.

• Fax comments to: National Indian Gaming Commission at 202-632-0045.

• Hand Delivery: National Indian Gaming Commission, 90 K Street NE, Suite 200, Washington, DC 20002, between 9 a.m. and 5 p.m., Monday through Friday, except Federal holidays.

FOR FURTHER INFORMATION CONTACT: Michael Hoenig, National Indian Gaming Commission; Telephone: (202) 632-7003.

SUPPLEMENTARY INFORMATION:

I. Background

On December 2, 2021, the National Indian Gaming Commission published a proposed rule to amend regulations for the Submission of Gaming Ordinances or Resolutions under the Indian Gaming Regulatory Act.

II. Reopening of Comment Period

Due to technical difficulties, comments sent to the email address information@nigc.gov, may not have been received by the NIGC. The NIGC has since corrected the issue and the email address is able to receive submissions. So that the Commission may ensure that it may consider all comments, it is reopening the comment period for seven days. Please resubmit at comments sent via email to the same email address.

Michael Hoenig,
General Counsel.

[FR Doc. 2022-13020 Filed 6-15-22; 8:45 am]

BILLING CODE 7565-01-P